DEPARTMENT OF THE INTERIOR

Bureau of Land Management

[ID-111-05-1220-EB-ID33]

Cove Recreation Site Use Fees and Supplementary Rules

AGENCY: Bureau of Land Management, Boise District, Idaho.

ACTION: Establishment of use fees and proposal of supplementary rules at Cove Recreation Site, Owyhee County, Idaho.

SUMMARY: The Bureau of Land Management is establishing use fees for the Cove Recreation Site in Birds of Prey National Conservation Area, and proposing supplementary rules at Cove Recreation Site for public use of the campground and day use areas. The fees are authorized by law, and the supplementary rules are necessary for human health and safety and to protect the natural resources of the site.

DATES: The use fees for Cove Recreation site will be effective beginning February 6, 2006. You should submit your written comments on the proposed supplementary rules by September 9, 2005. BLM may not necessarily consider or include in the Administrative Record for the final supplementary rules comments that are received after the close of the comment period (see DATES) or comments delivered to an address other than those listed under ADDRESSES.

ADDRESSES: (1) You may mail comments on the proposed supplementary rules to Bureau of Land Management, Four Rivers Field Office, 3948 Development Avenue, Boise, Idaho 83705; (2) You may hand deliver comments to the Bureau of Land Management, at the same address.

FOR FURTHER INFORMATION CONTACT: Larry Ridenhour, Outdoor Recreation Planner, Bureau of Land Management, Four Rivers Field Office, 3948 Development Avenue, Boise, Idaho 83705 (208) 384-3300.

SUPPLEMENTARY INFORMATION:

I. Procedures for Submitting Comments

II. Background

III. Procedural Matters

IV. Recreation Site Fees and Proposed Supplementary Rules

I. Procedures for Submitting Comments

Comments on the proposed supplementary rules should be specific, should be confined to issues pertinent to the proposals, and should explain the reason for any recommended change. Where possible, your comments should reference the specific section or paragraph of the proposed supplementary rules that you are addressing.

BLM will have all comments, including names and addresses, available for public review at the Four Rivers Field Office office in Boise, ID, during regular business hours (8 a.m. to 4:30 p.m., Monday through Friday, except Federal holidays). Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

Cove Recreation Site is a 29-unit campground and day-use site located along C.J. Strike Reservoir, about 35 miles southwest of Mountain Home in southwestern Idaho.

Pursuant to the Federal Lands Recreation Enhancement Act of 2004, a fee per vehicle will be charged for day use and a fee per campsite will be charged for overnight use at Cove Recreation Site. BLM will charge separate fees for day use, primitive overnight use, and recreational vehicle (RV) camping. These fees will be posted at the site, and at the Web site, http://www.birdsofprey.blm.gov, and at the Four Rivers Field Office in Boise, ID. Fees must be paid at the self-service pay stations located in the campground and day use areas. Checkout time for overnight users is 2 p.m. People holding Golden Age or Golden Access Passports will be entitled to a 50-percent fee reduction.

III. Procedural Matters

Executive Order 12866, Regulatory Planning and Review

These proposed supplementary rules are not a significant regulatory action and are not subject to review by Office of Management and Budget under Executive Order 12866. These proposed supplementary rules will not have an effect of $100 million or more on the economy. They will not adversely affect in a material way the economy, productivity, competition, jobs, the environment, public health or safety, or State, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They merely impose rules of conduct and impose other limitations on certain recreational activities at a recreation site on the Birds of Prey National Conservation Area to protect natural resources and human health and safety.

Fees have not been charged at this campground in the past. While this represents a change from past free use of the site, it will not be a major change in the context of the Executive Order; that is, the fees will not have an effect on the economy of $100 million per year. Information concerning the proposed new fees has been available on the BLM Web site, is posted on site, has been written up in local newspapers, and has been spread through word of mouth from on-site camp hosts and local users. These efforts will continue following notice publication with additional press releases to local news media.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the discussion of the proposed supplementary rules in the SUPPLEMENTARY INFORMATION section of this preamble helpful to your understanding of the proposed supplementary rules? How could this material be more helpful in making the proposed supplementary rules easier to understand?

Please send any comments you have on the clarity of the supplementary rules to the address specified in the ADDRESSES section.

National Environmental Policy Act

BLM has prepared an Environmental Assessment (No. ID-090-03-022) (EA) for reconstruction of the Cove Recreation Site. These proposed supplementary rules are designed to mitigate potential user-related issues discussed in the environmental assessment. While the EA does not include or analyze specific language for the proposed rules, it does inform the public that rules for use of the area would be developed to reduce user conflicts and protect important resources and values.

The EA states that, because of heavy historical use of the site, the ground surface surrounding the structures on the site is disturbed and highly compacted from unrestricted vehicle traffic. Off-road vehicle (ORV) use is widespread throughout the area. BLM has noted an increasing network of trails throughout the NCA. As a result, erosion is a concern in several heavily used areas, including the Cove Recreation Site, particularly on the east side of the inlet. The potential impacts to vegetation, water quality, and public health as a result of overuse of this site are a concern. Uncontrolled ORV activity damages existing habitats, disturbs wildlife within the area (including raptors) and can adversely impact other recreational uses.

The proposed supplementary rules are designed to mitigate these specific issues addressed in the EA, including:

1. Off-road vehicle impacts to soils and vegetation,

2. User conflicts (noise, pets, weapons, vehicle speeding, etc.), and

3. Human-caused wildfires.

BLM has found that the proposed supplementary rules would not constitute a major Federal action significantly affecting the quality of the human environment under section 102(2)(C) of the Environmental Protection Act of 1969 (NEPA), 42 U.S.C. 4332(2)(C). The EA is available for review in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on the National Conservation Area to protect natural resources and the environment, and human health and safety.

To determine an appropriate fee structure, we interviewed managers of local and regional recreational facilities, including Bruneau Dunes State Park, Three Island State Park, and Black Sands Resort, a small business, to ascertain what they currently charged for picnicking, day use, tent camping, RV camping with and without hook-ups, etc. As part of this process, we assured the owner of Black Sands Resort (located 1/2 mile west of Cove Rec. Site) that the fees for Cove Rec. Site would be set so as not to undercut the fees being charged at Black Sands Resort for the same services. In addition, the proposed fees are consistent with fees being charged for the same services at other public facilities, including the above-mentioned Bruneau Dunes and Three Island State Parks.

Therefore, BLM has determined under the RFA that these proposed supplementary rules would not have a significant economic impact on a substantial number of small entities.

Small Business Regulatory Enforcement Fairness Act (SBREFA)

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities at one recreation site on the National Conservation Area to protect natural resources and the environment, and human health and safety. The user fees imposed at the site will not unfairly compete with local small businesses.

Unfunded Mandates Reform Act

These proposed supplementary rules do not impose an unfunded mandate on State, local, or Tribal governments or the private sector of more than $100 million per year; nor do these proposed supplementary rules have a significant or unique effect on State, local, or tribal governments or the private sector. They would merely impose reasonable restrictions on certain recreational activities at one recreation site on the National Conservation Area to protect natural resources and the environment, and human health and safety. As for the fees to be imposed, BLM has coordinated with all local, State, and Federal agencies before establishing a new fee structure at the site. Therefore, BLM is not required to prepare a statement containing the information required by the Unfunded Mandates Reform Act (2 U.S.C. 1531 et seq.)

Executive Order 12630, Governmental Actions and Interference With Constitutionally Protected Property Rights (Takings)

The proposed supplementary rules do not represent a government action capable of interfering with constitutionally protected property rights. The proposed supplementary rules would have no effect on private lands or property. Therefore, the Department of the Interior has determined that the rule would not cause a taking of private property or require preparation of a takings assessment under this Executive Order.

Executive Order 13132, Federalism

The proposed supplementary rules would not have a substantial direct effect on the States, on the relationship between the national government and the States, or on the distribution of power and responsibilities among the various levels of government. The proposed supplementary rules would have no effect on State or local government, and specifically exempt State and local government law enforcement and emergency personnel and activities from the effect of the supplementary rules. As for the recreation site fees to be imposed, BLM has coordinated with all local, State, and Federal agencies, consulting with managers of local and regional recreational facilities, including Bruneau Dunes State Park and Three Island State Park, before proposing a new fee structure at the site. Therefore, in accordance with Executive Order 13132, BLM has determined that these proposed supplementary rules do not have sufficient federalism implications to warrant preparation of a federalism assessment.

Executive Order 12988, Civil Justice Reform

Under Executive Order 12988, the Office of the Solicitor determined that these proposed supplementary rules would not unduly burden the judicial system and that they meet the requirements of sections 3(a) and 3(b)(2) of the Order.

Executive Order 13175, Consultation and Coordination With Indian Tribal Governments

Coordination and consultation as to development of the Cove Recreation Site and the establishment of new fees has included contact with the following Tribal entities: Shoshone Bannock Tribes and Shoshone Paiute Tribes. As a result of the consultation and coordination, in accordance with Executive Order 13175, we have found that these proposed supplementary rules for the recreation site do not include policies that have Tribal implications.

Paperwork Reduction Act

These proposed supplementary rules do not contain information collection requirements that the Office of Management and Budget must approve under the Paperwork Reduction Act of 1995, 44 U.S.C. 3501 et seq.

Author

The principal author of these proposed supplementary rules is Larry Ridenhour, Outdoor Recreation Planner, Four Rivers Field Office, Bureau of Land Management.

IV. Recreation Site Fees and Proposed Supplementary Rules

Recreation site fees for the Cove Recreation Site will go into effect on February 6, 2006. The fee schedules will be posted at the site, in the Four Rivers Field Office, and on the Internet at http://www.birdsofprey.blm.gov.

In addition to the recreation site fees, the following supplementary rules are established for the campground and day-use areas:

1. Rules

a. Fees must be paid within one hour of arrival to the recreation site or campground.

b. Fees for overnight camping will permit two vehicles per numbered campsite. Additional vehicles will be charged an extra fee per day.

c. Camping is permitted at developed (numbered) sites only.

d. Motorized vehicles must remain on constructed roadways, must park at designated sites only, and may not obstruct traffic flow.

e. Cross-country vehicle travel is not allowed.

f. Vehicles and camping gear may not be left unattended in the recreation site for longer than 24 hours.

g. Quiet hours are established from 10 p.m. to 6 a.m. No loud talking, loud music, barking dogs, operation of generators, or other disturbing activities are permitted in the campground during these hours.

h. Campfires are permitted in developed fire grills only.

i. No firewood may be cut or broken from standing live or dead vegetation.

j. Maximum length of stay in the campground is 14 consecutive days.

k. Pets must be kept on a leash within the recreation site, and camping and day use areas must be kept free of pet waste.

l. Firearms, bows and arrows, other weapons, air rifles, paintball equipment, and pistols may not be discharged in the campground or day-use areas.

m. The use of fireworks is prohibited within Cove Recreation Site.

n. Drivers must obey the posted speed limits within the Cove Recreation Site.

2. Exceptions

Federal, State, and local law enforcement officers, government employees, and BLM volunteers are exempt from these supplementary rules in the course of their official duties. Limitations on the use of motorized vehicles do not apply to emergency vehicles, fire suppression and rescue vehicles, law enforcement vehicles, and other vehicles performing official duties, or as approved by an authorized officer of BLM.

3. Authority

These rules are established under the authority contained in 43 CFR 8365.1-6. Violations of these rules are punishable by a fine not to exceed $1,000 and/or imprisonment not to exceed 12 months (43 CFR 8360.0-7), or the enhanced penalties established in 18 U.S.C. 3571.

Dated: June 22, 2005.
Rosemary Thomas,
Four Rivers Field Office Manager.

[FR Doc. 05-15815 Filed 8-9-05; 8:45 am]

BILLING CODE 4310-GG-P